DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2013 Census Test.

OMB Control Number: None.

Form Number(s): The automated survey instrument will have no form number.

Type of Request: New collection.

Burden Hours: 334.

Number of Respondents: 2,000.

Average Hours per Response: 10 minutes.

Needs and Uses: The U.S. Constitution gives the Census Bureau the authority to enumerate the U.S. population every ten years. In 2010, the Census Bureau encouraged housing units in areas that received a mailed 2010 Census form to fill out and mail back this Census questionnaire. In total, 47,197,405 housing units did not mail back their form and were included in Nonresponse Followup (NRFU), which employed enumerators to obtain information from each occupied housing unit included in the NRFU workload. This activity cost $1,589,397,886.

In preparation for the 2020 Census, the Census Bureau is testing self-response strategies to decrease the NRFU workload and contact strategies to decrease the cost of NRFU. This pre-test will examine the use of administrative records and an adaptive contact strategy tailored to each household to reduce the NRFU workload and to increase NRFU production rates, while attempting to maintain or to increase the level of data quality. Specifically, this pre-test will use current Census infrastructure to research (1) removing households from the NRFU interviewer workload using administrative records and (2) employing an adaptive contact strategy tailored to each household. This pre-test will inform the use of administrative records and future NRFU contact strategies tested during the 2020 Research and Testing Program. The results from this pre-test are necessary to reduce the risks associated with a larger scale implementation of an adaptive contact strategy component, which is planned for the 2014 Census Test.

The Census Bureau will conduct the 2013 Census Test on 2,000 housing units in the Philadelphia metropolitan area. To simulate a NRFU data collection environment, the sample will consist of housing units that did not mail back a self-response form in the 2010 decennial census based on the 2010 Census NRFU universe. Data collection will begin in October 2013 and end in November 2013.

The sampled housing units will be divided across four treatments:

• (Treatment 1) use of administrative records to reduce workload and a fixed contact strategy, in which all cases have the same contact strategy until enumerated,

• (Treatment 2) no use of administrative records to reduce workload and a fixed contact strategy,

• (Treatment 3) use of administrative records to reduce workload and an adaptive contact strategy, in which cases are assigned unique contact strategies determined by response likelihood and cost models, and

• (Treatment 4) no use of administrative records to reduce workload (records used only to prioritize cases) and an adaptive contact strategy.

After mailing a pre-notice asking for participation in this study, the Census Bureau will employ administrative records in Treatments 1 and 3 to remove occupied housing units from the NRFU workload, if there are records for these units containing sufficient information to enumerate them. The suitability of records for enumerating these housing units is determined through the Census Bureau's research on matching administrative records information to 2010 Census NRFU housing units.

The Census Bureau will mail all housing units a prenotice letter two weeks before the start of data collection, alerting residents about the upcoming study. For the treatments in which administrative records are employed to reduce the NRFU workload (Treatments 1 and 3), the Census Bureau will remove housing units from this data collection whose prenotice letters are not returned with “undeliverable as addressed” United States Postal Service information and that have record evidence of occupancy. These housing units will be classified as “occupied” for purposes of the study. In these treatments, the Census Bureau also will remove housing units from this data collection whose prenotice letters are returned with “undeliverable as addressed” United States Postal Service information and that have no other record evidence of occupancy. These housing units will be classified as “vacant” for purposes of the study.

The Census Bureau will not employ administrative records to reduce workload in Treatments 2 and 4. Instead, administrative records will prioritize cases for contact in the adaptive design condition (Treatment 4).

The Census Bureau will match NRFU housing units to cell and landline telephone numbers. In the fixed contact strategy treatments (Treatments 1 and 2), the Census Bureau will instruct computer-assisted personal interviewing (CAPI) interviewers to telephone housing units before performing personal visits. Interviewers will attempt to contact housing units without telephone numbers via personal visits. If an interviewer cannot complete an interview, they will be instructed to obtain a proxy interview.

In the adaptive contact strategy treatments (Treatments 3 and 4), the Census Bureau will send telephone numbers to a computer-assisted telephone interviewing (CATI) operation where interviewers will attempt to contact and to interview housing units for two weeks. At the end of these two weeks, nonresponding CATI cases will be moved to CAPI interviewers who will attempt personal visits (Housing units without telephone numbers will be sent straight to CAPI interviewers during these two weeks). CAPI interviewers in the adaptive contact strategy treatments will be told on a daily basis which cases are priority for contact and when to perform proxy interviews, as determined by response likelihood and cost models.

The Census Bureau will use existing staff and office infrastructure for this pre-test. Where necessary, the Census Bureau will modify existing systems and field procedures.

The Census Bureau will use the 2013 Census Test to test operational procedures that might increase NRFU efficiency. Secondary goals of the research include gaining an initial measurement of the cost savings associated with using administrative records and an adaptive design contact strategy to enumerate simulated non-responding housing units and measuring the quality of data produced by these approaches.

The primary goal of the test will be to assess whether the Census Bureau can implement a simulated NRFU data collection using adaptive design and administrative records during production. Secondary goals will measure the cost and data quality between two sets of groups. One analysis will compare operational efficiency, cost, and data quality between treatments that use and that do not use administrative records to reduce the NRFU workload. Another analysis will compare operational efficiency, cost, and data quality between treatments that use an adaptive design contact strategy versus a fixed contact strategy. The Census Bureau will also examine the interaction of adaptive design and the use of administrative records on operational efficiency, cost, and data quality.

The 2013 Census Test will inform future 2020 Census NRFU tests, which includes a test of administrative records and self-response and NRFU contact strategies in 2014. Data will not be released as Census Bureau data products or be used for official estimates. Rather, results will aid in determining how to test the use of administrative records and an adaptive contact strategy in future, larger tests. Results will also inform the infrastructure required to support using administrative records and a centralized CATI system to enumerate a NRFU population, as well as an operational control system (OCS) that enables real-time case prioritization and mode switching.

The Census Bureau plans to make the aggregated results of this study available to the public. Information quality is an integral part of the pre-dissemination review of the information disseminated by the Census Bureau (fully described in the Census Bureau's Information Quality Guidelines). Information quality is also integral to the information collections conducted by the Census Bureau and is incorporated into the clearance process required by the Paperwork Reduction Act.

Data from the test will be included in reports with clear statements about the test's methodology and limitations. Reports will state that the data were produced for decision-making and exploratory research, not for official estimates. Research results may be prepared for presentations at professional meetings or in publications in professional journals to promote discussion within the larger survey and statistical community and to encourage further research and refinement. All presentations or publications will provide clear descriptions of the test's methodology and its limitations.

The Census Bureau published a notice in the Federal Register on September 6, 2012 (Vol. 77, No. 173, pp. 54887-54889) announcing its intention to conduct a test of alternative contact strategies in a census environment. The 2013 Census Test is being submitted as a component of and a precursor to that larger test to be conducted in 2014 (the 2014 Census Test). In the notice, we requested 36,167 burden hours. The 2013 Census Test will use 334 of that total. The 2014 Census Test will use the remainder of this amount.

Affected Public: Individuals or households.

Frequency: One Time.

Respondent's Obligation: Mandatory.

Legal Authority: Title 13 U.S.C., Sections 141 and 193.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: July 9, 2013.
Gwellnar Banks,
Management Analyst, Office of the Chief Information Officer.

[FR Doc. 2013-16822 Filed 7-12-13; 8:45 am]

BILLING CODE 3510-07-P